FEDERAL COMMUNICATIONS COMMISSION

Notice of Public Information Collection(s) Being Submitted to OMB for Review and Approval

May 23, 2003.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 7, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION: OMB Control Number: 3060-0750.

Title: Section 73.673, Public Information Initiatives Regarding Educational and Informational Programming for Children.

Form Number: N/A.

Type of Review: Revision of a currently approved collection.

Respondents: Business or other for-profit entities; Individuals or households.

Number of Respondents: 1,825.

Estimated Time per Response: 1 to 5 minutes.

Frequency of Response: Annual and eight year reporting requirements; Third party disclosure.

Total Annual Burden: 56,940 hours (multiple responses per year).

Total Annual Costs: $0.00.

Needs and Uses: On April 13, 2001, the Commission released a Memorandum Opinion and Order on Reconsideration, In the Matter of Establishment of a Class A Television Station, MM Docket 00-10, FCC 01-123. This rule expanded the scope of 47 CFR section 73.673 to include Class A television station licensees. 47 CFR section 73.673 implements the Children's Television Act of 1990 (CTA). The rule requires that commercial TV broadcasters identify programs specifically designed to educate and inform children. This identification will occur at the beginning of the programs. In addition, licensees will provide to publishers of program guides information identifying children's programs and the intended age groups. The rule provides greater clarity about broadcasters' obligations to air programming “specifically designed” to serve the educational and informational needs of children and to improve public access to information about the availability of these programs.

Federal Communications Commission.
Marlene H. Dortch,
Secretary.

[FR Doc. 03-14095 Filed 6-4-03; 8:45 am]

BILLING CODE 6712-01-P